Title 3—

The President

Proclamation 10105 of October 23, 2020

United Nations Day, 2020

By the President of the United States of America

A Proclamation

Today, on the 75th anniversary of the United Nations (UN), we celebrate its commitment to peace and security, prosperity, human rights, rule of law, and development. The victorious Allies conceived the UN in the ashes of two devastating world wars, welcoming all nations to join together to ensure peace and promote economic prosperity. As a founding member of the UN, which was chartered in San Francisco and is headquartered in New York, the United States remains dedicated to those noble UN purposes and principles. We also recognize that the successes of the UN and its specialized agencies were built on precepts that ensure its good functioning: independence, impartiality, good governance, accountability, and transparency.

Because of our continuing belief in the UN's promise and our desire to see it be effective over the next 75 years, we are determined to make the UN more agile, effective, efficient, transparent, and accountable. These efforts will help the UN improve, adapt to crises, and reach its full potential. If the UN is to be an effective organization, it must focus on the real problems of the world, including terrorism, the oppression of women, forced labor, drug cartels, human and sex trafficking, religious persecution, and the ethnic cleansing of religious minorities.

The United States is forging a new path of unprecedented domestic and global prosperity, cooperation, and peace. Last month, I brokered historic peace deals between Israel and the United Arab Emirates and Israel and Bahrain, paving the way for broader peace in the Middle East. Known as the Abraham Accords, these diplomatic breakthroughs reflect the shared commitment of every well-intentioned member state to achieve tranquility in the region once and for all. Just today, the leaders of Sudan and Israel also agreed to the normalization of relations between their two countries. In response to Iran's nefarious actions, the United States withdrew from the disastrous Iran Nuclear Deal, and re-imposed sanctions on the Iranian regime. In Europe, my Administration brokered a historic deal on Serbia-Kosovo economic normalization, accelerating economic growth and job creation opportunities. After more than 20 years of limited progress on political negotiations in the Balkans, the commitments made by President Vučić and Prime Minister Hoti are the first steps in achieving long-term peace and stability in the region. The United States invites all fellow UN Security Council members to join in our country's efforts to promote liberty and freedom across the globe.

The United States also encourages the international community to provide complete accountability, responsiveness, and transparency in sharing public health data as we fight the coronavirus pandemic. My Administration maintains that effective relief depends on global public health coordination and widespread access to medical information coupled with personal privacy and security protections. Our recent decision to withdraw from the World Health Organization underscores our firm commitment to hold governmental organizations accountable when they succumb to political influence and fail to uphold their core values. The Chinese Government has misled the international community since the outbreak in Wuhan, and the UN must join with the United States in holding China accountable for its actions.

The United States recognizes the integral role the UN has played in the international system for 75 years and honors those who have nobly dedicated their lives to global humanitarian and peacekeeping missions and to setting the conditions for development and prosperity. We also note with great satisfaction the awarding of the Nobel Peace Prize to the Whole Food Program, which the United States has supported more generously than any other member state since 1961.

The United States proudly remains the largest and most reliable supporter of the UN and its founding principles. It is in that spirit that we call on all nations to join the United States in working to ensure the UN continues to live up to its noble ideals of liberty, prosperity, and the pursuit of world peace.

NOW, THEREFORE, I, DONALD J. TRUMP, President of the United States of America, by virtue of the authority vested in me by the Constitution and the laws of the United States, do hereby proclaim October 24, 2020, as United Nations Day. I urge the Governors of the 50 States, the Governor of the Commonwealth of Puerto Rico, and the officials of all other areas under the flag of the United States, to observe United Nations Day with appropriate ceremonies and activities.

IN WITNESS WHEREOF, I have hereunto set my hand this twenty-third day of October, in the year of our Lord two thousand twenty, and of the Independence of the United States of America the two hundred and forty-fifth.

[FR Doc. 2020-24169

Filed 10-28-20; 11:15 am]

Billing code 3295-F1-P